NUCLEAR REGULATORY COMMISSION

Sunshine Act Federal Register Notice

Agency Holding the Meetings: Nuclear Regulatory Commission.

Dates: Weeks of April 16, 23, 30, May 7, 14, 21, 2007.

Place: Commissioners' Conference Room, 11555 Rockville Pike, Rockville, Maryland.

Status: Public and Closed.

Matters to be Considered:

Week of April 16, 2007

Monday, April 16, 2007

1:30 p.m. Discussion of Security Issues (Closed—Ex. 1, 2, & 3).

Tuesday, April 17, 2007

9 a.m. Briefing on New Reactor Issues—Environmental Issues (Public Meeting) (Contact: James Lyons, 301-415-3050).

This meeting will be webcast live at the Web address— www.nrc.gov.

12:55 p.m. Affirmation Session (Public Meeting) (Tentative).

a. Final Rulemaking—10 CFR part 26—Fitness-for-Duty Programs (Tentative).

b. Final Rulemaking on Limited Work Authorizations (Tentative).

c. Southern Nuclear Operating Co. (Early Site Permit for Vogtle ESP Site), Docket No. 52-011-ESP, Certified Questions (Tentative).

1 p.m. Briefing on Office of Nuclear Regulatory Research (RES) Programs, Performance, and Plans (Public Meeting) (Contact: Ann Ramey-Smith, 301-415-6877).

This meeting will be webcast live at the Web address— www.nrc.gov.

Week of April 23, 2007—Tentative

There are no meetings scheduled for the Week of April 23, 2007.

Week of April 30, 2007—Tentative

There are no meetings scheduled for the Week of April 30, 2007.

Week of May 7, 2007—Tentative.

Monday, May 7, 2007

1:30 p.m. Briefing on Office of Federal and State Materials and Environmental Management Programs (FSME) Programs, Performance, and Plans (Public Meeting) (Contact: George Deegan, 301-415-7834).

This meeting will be webcast live at the Web address— www.nrc.gov.

Week of May 14, 2007—Tentative

There are no meetings scheduled for the Week of May 14, 2007.

Week of May 21, 2007—Tentative

There are no meetings scheduled for the Week of May 21, 2007.

* * * * *

The schedule for Commission meetings is subject to change on short notice. To verify the status of meetings call (recording)—(301) 415-1292. Contact person for more information: Michelle Schroll, (301) 415-1662.

* * * * *

Additional Information

By a vote of 4-1 on April 12, 2007, the Commission determined pursuant to U.S.C. 552b(e) and § 9.107(a) of the Commission's rules that Affirmation of “Southern Nuclear Operating Co. (Early Site Permit for Vogtle ESP Site), Docket No. 52-011-ESP, Certified Questions” be held April 17, 2007, and on less than one week's notice to the public.

* * * * *

The NRC Commission Meeting Schedule can be found on the Internet at: www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: April 12, 2007.
R. Michelle Schroll,
Office of the Secretary.

[FR Doc. 07-1915 Filed 4-13-07; 12:54 pm]

BILLING CODE 7590-01-P